DEPARTMENT OF TRANSPORTATION

Federal Aviation Administration

14 CFR Part 97

[Docket No. 31285; Amdt. No. 3881]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 12, 2019. The compliance date for each SIAP, associated Takeoff Minimums, and ODP is specified in the amendatory provisions.

The incorporation by reference of certain publications listed in the regulations is approved by the Director of the Federal Register as of December 12, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html .

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (Air).

Issued in Washington, DC, on November 29, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 30 January 2020

Mountain Village, AK, Mountain Village, RNAV (GPS) RWY 2, Amdt 2

Mountain Village, AK, Mountain Village, RNAV (GPS) RWY 20, Amdt 2

Mountain Village, AK, Mountain Village, Takeoff Minimums and Obstacle DP, Amdt 2

Redding, CA, Redding Muni, ILS OR LOC RWY 34, Amdt 12

Redding, CA, Redding Muni, LOC BC RWY 16, Amdt 8

Redding, CA, Redding Muni, RNAV (GPS) RWY 16, Orig

Redding, CA, Redding Muni, RNAV (GPS) RWY 34, Amdt 2

Redding, CA, Redding Muni, Takeoff Minimums and Obstacle DP, Amdt 5C

Redding, CA, Redding Muni, VOR RWY 34, Amdt 11

San Luis Obispo, CA, San Luis County Rgnl, RNAV (GPS) RWY 11, Amdt 2

San Luis Obispo, CA, San Luis County Rgnl, RNAV (GPS) RWY 29, Amdt 1

Denver, CO, Centennial, ILS OR LOC RWY 35R, Amdt 10B

Steamboat Springs, CO, Steamboat Springs/Bob Adams Field, Takeoff Minimums and Obstacle DP, Amdt 2

Walden, CO, Walden-Jackson County, RNAV (GPS) RWY 4, Orig

Washington, DC, Manassas Rgnl/Harry P Davis Field, RNAV (GPS) RWY 16L, Amdt 1D

Washington, DC, Manassas Rgnl/Harry P Davis Field, RNAV (GPS) RWY 16R, Amdt 1C

Washington, DC, Manassas Rgnl/Harry P Davis Field, RNAV (GPS) RWY 34R, Amdt 3A

Fort Lauderdale, FL, Fort Lauderdale/Hollywood Intl, Takeoff Minimums and Obstacle DP, Amdt 7

Miami, FL, Miami Intl, RNAV (GPS) Z RWY 8R, Amdt 1C

Denison, IA, Denison Muni, RNAV (GPS) RWY 12, Amdt 1B

Denison, IA, Denison Muni, RNAV (GPS) RWY 30, Amdt 1B

Fairfield, IA, Fairfield Muni, RNAV (GPS) RWY 18, Amdt 3

Fairfield, IA, Fairfield Muni, RNAV (GPS) RWY 36, Amdt 2

Shelbyville, IL, Shelby County, RNAV (GPS) RWY 36, Orig-D

Colby, KS, Shalz Field, RNAV (GPS) RWY 17, Amdt 1B

Colby, KS, Shalz Field, RNAV (GPS) RWY 35, Amdt 1C

Washington, KS, Washington County Veteran's Memorial, RNAV (GPS) RWY 17, Amdt 1A

Lexington, KY, Blue Grass, RNAV (GPS) RWY 4, Amdt 1B

Beverly, MA, Beverly Rgnl, LOC RWY 16, Amdt 7E

Beverly, MA, Beverly Rgnl, RNAV (GPS) RWY 16, Amdt 1F

Lakeview, MI, Lakeview-Griffith Field, RNAV (GPS) RWY 10, Orig-C

Lakeview, MI, Lakeview-Griffith Field, VOR/DME RWY 10, Orig-B, CANCELLED

Longville, MN, Longville Muni, NDB RWY 31, Amdt 1A

Longville, MN, Longville Muni, RNAV (GPS) RWY 13, Orig-A

Longville, MN, Longville Muni, RNAV (GPS) RWY 31, Orig-B

St Louis, MO, St Louis Lambert Intl, RNAV (GPS) Y RWY 11, Orig-E

Winnemucca, NV, Winnemucca Muni, Takeoff Minimums and Obstacle DP, Amdt 2

Winnemucca, NV, Winnemucca Muni, VOR RWY 14, Amdt 1

Winnemucca, NV, Winnemucca Muni, WINNEMUCCA ONE, Graphic DP

Syracuse, NY, Syracuse Hancock Intl, ILS OR LOC RWY 10, Amdt 14

Syracuse, NY, Syracuse Hancock Intl, ILS OR LOC RWY 28, ILS RWY 28 (SA CAT I), ILS RWY 28 (CAT II), Amdt 35

Syracuse, NY, Syracuse Hancock Intl, RNAV (GPS) RWY 15, Amdt 2

Syracuse, NY, Syracuse Hancock Intl, RNAV (GPS) RWY 33, Amdt 2

Syracuse, NY, Syracuse Hancock Intl, RNAV (GPS) Z RWY 10, Amdt 3

Syracuse, NY, Syracuse Hancock Intl, TACAN RWY 33, Amdt 1

Syracuse, NY, Syracuse Hancock Intl, VOR RWY 15, Amdt 23B, CANCELLED

Lima, OH, Lima Allen County, RNAV (GPS) RWY 10, Amdt 1C

Toledo, OH, Toledo Express, RNAV (GPS) RWY 7, Amdt 1C

Toledo, OH, Toledo Express, RNAV (GPS) RWY 25, Amdt 2C

Toledo, OH, Toledo Express, RNAV (GPS) RWY 34, Orig-C

Toledo, OH, Toledo Express, VOR RWY 34, Amdt 7D, CANCELLED

Antlers, OK, Antlers Muni, RNAV (GPS) RWY 35, Orig-B

Antlers, OK, Antlers Muni, Takeoff Minimums and Obstacle DP, Amdt 1

Redmond, OR, Roberts Field, RNAV (GPS) RWY 11, Amdt 3

Redmond, OR, Roberts Field, RNAV (GPS) Y RWY 5, Amdt 3

Babelthuap Island, PW, Babelthuap/Koror, Takeoff Minimums and Obstacle DP, Amdt 2

Palestine, TX, Palestine Muni, Takeoff Minimums and Obstacle DP, Amdt 3

Waco, TX, Waco Rgnl, ILS OR LOC RWY 19, Amdt 17

Waco, TX, Waco Rgnl, RNAV (GPS) RWY 14, Amdt 1

Waco, TX, Waco Rgnl, RNAV (GPS) RWY 19, Amdt 1

Richfield, UT, Richfield Muni, RNAV (GPS) RWY 19, Amdt 1C

Guernsey, WY, Camp Guernsey, NDB RWY 32, Amdt 2

[FR Doc. 2019-26615 Filed 12-11-19; 8:45 am]

BILLING CODE 4910-13-P